DEPARTMENT OF AGRICULTURE

Forest Service

Comprehensive River Management Plan for the Black, Ontonagon, Presque Isle, Paint, Sturgeon and Yellow Dog National Wild and Scenic Rivers, Ottawa National Forest, Baraga, Gogebic, Houghton, Iron, Marquette and Ontonagon Counties, MI

AGENCY: Forest Service, USDA.

ACTION: Notice of availability.

SUMMARY: In accordance with section 3(d)(1) of the Wild and Scenic Rivers Act, the USDA Forest Service, announces the availability of the Ottawa National Forest Comprehensive River Management Plan. On July 13, 2007, Forest Supervisor, Susan J. Spear made a decision to adopt into the Forest Plan, the Comprehensive River Management Plan which required an amendment to the Ottawa National Forest Plan. This management plan outlines use levels, development levels, resource protection measures, and general management direction for the river corridor. This amendment is necessary to implement the Wild and Scenic Rivers Act which required the Forest Service to develop a management plan for the Black, Ontonagon, Presque Isle, Paint, Sturgeon and Yellow Dog Rivers. Interim direction was identified in the Forest Plan as Management Area 8.1. The environmental assessment documents the analysis of alternatives for managing the Black, Ontonagon, Presque Isle, Paint, Sturgeon and Yellow Dog Wild and Scenic Rivers in accordance with the Wild and Scenic Rivers Act. This decision is subject to appeal pursuant to Forest Service Regulations 36 CFR part 217. Appeals must be filed within 45 days from the date of publication in the newspaper of record the Ironwood Daily Globe, Ironwood, Michigan.

The environmental assessment is available for public review at the Ottawa National Forest Supervisor's Office in Ironwood, Michigan or on the Ottawa National Forest Web page at http://www.fs.fed.us/r9/ottawa/recreation/wsr/index.htm.

DATES: Effective Date: Implementation of this decision shall not occur for 7 days following the publication of the legal notice of the decision in the Ironwood Daily Globe, Ironwood, Michigan.

FOR FURTHER INFORMATION CONTACT: Information may be obtained by contacting Teresa Wagner or Karen Dunlap, Ottawa National Forest, E6248 U.S. Highway 2, Ironwood, Michigan, (906) 932-1330.

Dated: July 26, 2007.
Susan J. Spear,
Forest Supervisor.

[FR Doc. E7-14920 Filed 7-31-07; 8:45 am]

BILLING CODE 3410-11-P